DEPARTMENT OF HEALTH AND HUMAN SERVICES

Centers for Disease Control and Prevention

[60Day-03-74]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Dale Verell, CDC Assistant Reports Clearance Officer, 1600 Clifton Road, MS-D24, Atlanta, GA 30333. Written comments should be received within 60 days of this notice.

Proposed Project: Healthy People 2010—National Survey of Public Health Agencies—New—Public Health Practice Program Office (PHPPO), Centers for Disease Control and Prevention (CDC). The proposed survey is designed to collect data to address objectives in Chapter 23; Healthy People 2010 focus area 23, Public Health Infrastructure. The Centers for Disease Control and Prevention and the Health Resources and Services Administration are co-lead agencies for focus area 23. The overall goal of objectives in focus area 23 is to ensure that federal tribal, State and local health agencies have the infrastructure to provide essential public health services effectively. This one-time survey is expected to take place over two to three months. There is no cost to respondents.

Respondents | Number of respondents | Number of responses per respondent | Average burden per response (in hrs.) | Total burden (in hrs.)
Local health Agencies | 1300 | 1 | 20/60 | 434
Tribal Agencies | 250 | 1 | 20/60 | 84
Total |  |  |  | 535

Dated: June 4, 2003.
Thomas A. Bartenfeld,
Acting Associate Director for Policy, Planning and Evaluation, Centers for Disease Control and Prevention.

[FR Doc. 03-14848 Filed 6-11-03; 8:45 am]

BILLING CODE 4163-18-P